DEPARTMENT OF TRANSPORTATION

Federal Aviation Administration

[Summary Notice No. PE-2001-08]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 26, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC, on January 30, 2001.
Donald P. Byrne,
Assistant Chief Counsel for Regulations.

Petitions for Exemption

Docket No.: FAA-2000-8062.

Petitioner: The Boeing Company.

Section of the 14 CFR Affected: 14 CFR 25.961(a)(5).

Description of Relief Sought/Disposition: To allow a maximum temperature limitation of 80 ° F for JP-4 and Jet B fuels for use on the Boeing Model 747-400/-400F equipped with Rolls Royce RB211-524G-T/H-T engines.

Docket No.: FAA-2000-8086.

Petitioner: Frontier Flying Service, Inc.

Section of the 14 CFR Affected: 14 CFR 119.67(a)(3)(i).

Description of Relief Sought/Disposition: To permit Mr. Robert Hajdukovich, President of FFS, to serve as Director of Operations of FFS, without having at least 3 years experience, within the last 6 years, as pilot in command of a large airplane operated under part 121 or part 135. FFS seeks a reconsideration of its previous denial of Exemption No. 7304, issued August 7, 2000.

Docket No.: FAA-2000-8376.

Petitioner: General Electric Company.

Section of the 14 CFR Affected: 14 CFR 21.19(a).

Description of Relief Sought/Disposition: To permit GE to amend Type Certificate No. E00049EN by adding its GE90 growth engines, aircraft engine models GE90-110B, GE90-113B, and GE90-115B, rather than making a new application for a type certificate for those engines.

Docket No.: FAA-2000-8471.

Petitioner: Termikas, USA.

Section of the 14 CFR Affected: 14 CFR 21.183(c).

Description of Relief Sought/Disposition: To permit Termikas to obtain a standard airworthiness certificate for each of its LET L-13 Blanik sailplanes without a certifying statement from the country of manufacture relating to the sailplane's airworthiness.

Docket No.: FAA-2000-8492.

Petitioner: The Boeing Company.

Section of the 14 CFR Affected: 14 CFR 25.1435(b)(1).

Description of Relief Sought: To allow compliance for the proof pressure testing requirements of § 25.1435(b)(1) for the Boeing Model 777-200LR and 777-300ER airplanes by (1) similarity to the previously tested hydraulic system on the Model 777-200 for the unchanged parts, and (2) conducting proof pressure tests at the relief valve setting (3,400 psig) for the changed parts of the installations.

Docket No.: FAA-2000-8508.

Petitioner: Boeing Airplane Services.

Section of the 14 CFR Affected: 14 CFR 25.783(h), 25.807(d)(1) and (e)(1), 25.810(a)(1), 25.812(e), 25,812(h)(1), 25.813(b), 25.857(e), 25.1445(a)(2), and 25.1447(c)(1).

Description of Relief Sought: To permit certain actions to be accomplished on Boeing Airplane Services' Boeing Model 757-200 series airplanes that have been converted from passenger-only to special freighter configurations.

Docket No.: FAA-2000-8514.

Petitioner: Addison Aviation Services, Inc.

Section of the 14 CFR Affected: 14 CFR 25.857(e)(4).

Description of Relief Sought: To certify Learjet Model 25 series airplanes, to be modified for the carriage of cargo as Class E compartments (an STC project), without meeting the requirements to exclude hazardous quantities of smoke, flames or noxious gases from the flight crew compartment.

Dispositions of Petitions

Docket No.: FAA-2000-8153.

Petitioner: American Airlines, Inc.

Section of 14 CFR Affected: 14 CFR 25.791(a) and 121.317(a).

Description of Relief Sought/Disposition: To permit American to operate its Boeing 737 and 777 aircraft with “No Smoking” signs that always are illuminated, provided American operates those aircraft in a manner that continues to prohibit smoking on board the affected aircraft at all times.

GRANT, 01/19/2001, Exemption No. 6853A.

Docket No.: FAA-2000-8473.

Petitioner: World Airways, Inc.

Section of 14 CFR Affected: 14 CFR 121.434(e).

Description of Relief Sought/Disposition: To permit World to use flight attendants trained and qualified by Garuda to act as required flight attendants during Hadj-related flight operations without each of those flight attendants having received the required 5 hours of supervised in-flight operating experience.

GRANT, 01/19/2001, Exemption No. 7421.

Docket No.: FAA-2000-8435.

Petitioner: TEMSCO Helicopters, Inc.

Section of 14 CFR Affected: 14 CFR 145.45(f).

Description of Relief Sought/Disposition: To permit TEMSCO to make available one copy of its Inspection Procedures Manual (IPM) to all of its supervisory and inspection personnel, rather than providing a copy of the IPM to each of those individuals.

GRANT, 01/09/2001, Exemption No. 6623B.

Docket No.: FAA-2000-8177

Petitioner: Experimental Aircraft Association and Confederate Air Force.

Section of 14 CFR Affected: 14 CFR 45.25 and 45.29.

Description of Relief Sought/Disposition: To permit EAA and CAF members to operate their historic military aircraft with 2-inch high nationality and registration marks located beneath the aircraft's horizontal stabilizer.

GRANT, 01/09/2001, Exemption No. 5019F.

Docket No.: FAA-2000-8470.

Petitioner: Western Missouri Aviation Foundation, Inc.

Section of 14 CFR Affected: 14 CFR 135.251, 135.255, 135.353, and appendixes I and J to part 121.

Description of Relief Sought/Disposition: To permit WMAF to conduct local sightseeing flights at (1) the Kansas City Downtown Airport, (2) the Johnson County Executive Airport, or (3) the Lee's Summit Airport, for its fundraising event benefiting the WMAF and the Child Abuse Prevention Association, from the date of issuance of this exemption through January 13, 2001, for compensation or hire, without complying with certain anti-drug and alcohol misuse prevention requirements of part 135.

GRANT, 12/28/2000, Exemption No. 7412.

Docket No.: FAA-2000-8500.

Petitioner: Atlantic Coast Airlines.

Section of 14 CFR Affected: 14 CFR 25.256(c)(5) and 25.785(a).

Description of Relief Sought/Disposition: To permit ACA the extension of the compliance date regarding the Head Injury Criterion (HIC) for front row passenger seating on Jetstream Series 4100 Model 4101, Serial No. 41101.

GRANT, 12/22/2000, Exemption No. 6776A.

Docket No.: FAA-2000-8094.

Petitioner: Mr. Ronald V. Boch.

Section of 14 CFR Affected: 14 CFR 121.383(c).

Description of Relief Sought/Disposition: To permit Mr. Boch to act as a pilot in operations conducted under part 121 after reaching his 60th birthday.

Denial, 12/18/2000, Exemption No. 7414.

Petition For Exemption

Docket No.: FAA-2000-8062.

Petitioner: The Boeing Company.

Regulations Affected: 14 CFR 25.961(a)(5).

Description of Petition: To exempt The Boeing Company, from the requirements of 14 CFR 25.961(a)(5) to allow a maximum temperature limitation of 80 °F for JP-4 and Jet B fuels for use on the Boeing Model 747-400/-400F equipped with Rolls Royce RB211-524G-T/H-T engines.

Petition For Exemption

Docket No.: FAA-2000-8086.

Petitioner: Frontier Flying Service, Inc.

Regulations Affected: § 119.67(a)(3)(i).

Description of Petition: To permit Mr. Robert Hajdukovich, President of FFS, to serve as Director of Operations of FFS, without having at least 3 years experience, within the last 6 years, as pilot in command of a large airplane operated under part 121 or part 135. FFS seeks a reconsideration of its previous denial of Exemption No. 7304, issued August 7, 2000.

[FR Doc. 01-2875 Filed 2-2-01; 8:45 am]

BILLING CODE 4910-13-M